ARCHITECTURAL AND TRANSPORTATION BARRIERS COMPLIANCE BOARD

36 CFR Parts 1193 and 1194

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee (Committee) to assist it in revising and updating accessibility guidelines for telecommunications products and accessibility standards for electronic and information technology. This notice announces the dates, time, and location of the third committee meeting, which will be open to the public.

DATES: The meeting is scheduled for February 6-8, 2007 (beginning at 9 a.m. and ending at 5 p.m. on February 6 and 7; and beginning at 9 a.m. on February 8 and ending at 3 p.m.). Notices of future meetings will be published in the Federal Register.

ADDRESSES: The meeting will be held at the Transportation Security Administration, 601 South 12th Street (town hall meeting room), Arlington, VA 22202.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Board organized the Telecommunications and Electronic and Information Technology Advisory Committee to review its standards for electronic and information technology covered by section 508 of the Rehabilitation Act and to provide recommendations on how they should be updated. The Committee will also address updating the Board's guidelines for telecommunications products covered by section 255 of the Telecommunications Act. The next meeting of the Committee will take place on February 6-8, 2007. A draft meeting agenda is provided below.

Topics to be discussed on Tuesday, February 6, 2007, 9 a.m. to 5 p.m.:

• Federal panel on section 508 exceptions

• Directed discussion on editorial work product of the committee

• Directed discussion on goals of the committee

• Presentation on methodology: Web Content Accessibility Guidelines and section 508 standards approaches

• Presentation on low vision and technology

• Public comment periods

Topics to be discussed on Wednesday, February 7, 2007, 9 a.m. to 5 p.m.:

• Break out sessions of selected subcommittees

• Subcommittee reports

• Presentation on cognition

• Directed discussion on themes

• Public comment periods

Topics to be discussed on Thursday, February 8, 2007, 9 a.m. to 3 p.m.:

• Assistive technology and information technology interoperability panel presentation and discussion

• Goals, future action items, timelines, and next steps

• Public comment periods

Information about the Committee, including future meeting dates and information on subcommittees is available on the Access Board's website (http://www.access-board.gov/sec508/update-index.htm) or at a special website created for the Committee's work (http://teitac.org). The site includes a calendar for subcommittee meetings, e-mail distribution lists, and a “Wiki” (http://teitac.org/wiki/TEITAC_Wiki) which provides interactive online work space.

Committee meetings are open to the public and interested persons can attend the meetings and communicate their views. Members of the public will have opportunities to address the Committee on issues of interest to them and the Committee during public comment periods scheduled on each day of the meeting. Members of groups or individuals who are not members of the Committee are invited to participate on subcommittees that were formed at the first meeting. The Access Board believes that participation of this kind is very valuable to the advisory committee process.

The meeting site is accessible to individuals with disabilities. Sign language interpreters, assistive listening systems, and real-time captioning will be provided. For the comfort of other participants, persons attending Committee meetings are requested to refrain from using perfume, cologne, and other fragrances. Due to security measures at the Transportation Security Administration, all attendees must notify Timothy Creagan (see contact information, above) by January 23, 2007 of their intent to attend the meeting. Pre-registration is required for expeditious entry into the facility and will enable the Board to provide additional information as needed.

Lawrence Roffee,
Executive Director.

[FR Doc. E7-306 Filed 1-11-07; 8:45 am]

BILLING CODE 8150-01-P